FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A & J Cargo Logistics Inc. (OFF), 8245 NW. 36th Street, Suite 5, Miami, FL 33166, Officers: Jose Iglasias, Jr., Vice President (QI), Andrex Iglesias, President, Application Type: Transfer to AJ Freight Services Inc. and QI Change.

American International Line (NYC), Inc. (NVO & OFF), 147-38 182nd Street, 1st Floor, Jamaica, NY 11413, Officers: Byung Ha Yoon, President (QI), Ki Bok Sung, Vice President, Application Type: New NVO & OFF License.

Cargo America, Inc. (OFF), 332 S. Wayside Drive, Houston, TX 77011, Officer: Ali Jabr, President (QI), Application Type: Add Trade Name Arabia Cargo and OFF Service.

CMX Global Logistics, LLC (NVO & OFF), 370 S. Crenshaw Blvd., Suite E202A, Torrance, CA 90503, Officers: Charles W. Dobeck, Member (QI), Grant J. Seeley, Member, Application Type: New License NVO & OFF License.

Columbus International Transport Co., Ltd. (NVO), 13101 Moore Street, Cerritos, CA 90703, Officers: Ki Hyeon Lee, CFO (QI), Seong Won Lee, CEO, Application Type: New NVO License.

Eagle Trans Shipping & Logistics LLC (NVO & OFF), Hoboken Business Center, 50 Harrison Street, Suite 301, Hoboken, NJ 07030, Officers: Jose L. Ramirez, Manager (QI), Sandip “Bobby” Ahluwalia, Chief Operations Officer, Application Type: QI Change.

EMIC International Corporation dba Express Auto Sales (NVO & OFF), 10729 Audelia Road, Suite 201, Dallas, TX 75238, Officer: Emmanuel U. Igwe, President (QI), Application Type: New NVO & OFF License.

Far East Freight Networks, Inc. (NVO & OFF), 321 E. Gardena Blvd., 2nd Floor, Gardena, CA 90248, Officers: Jenie Kim, President (QI), Sean W. Kim, Director, Application Type: New NVO & OFF License.

In Motion Logistics, LLC (NVO), 1535 SW 151 Avenue, Pembroke Pines, FL 33027, Officers: Michael L. DeBartolo, Managing Member (QI), Juan D. Restrepo, Member, Application Type: New NVO License.

KYS Imports & Exports Inc. (NVO), 1938 Tyler Avenue, Suite O, El Monte, CA 91733, Officer: Kevin Lee, President (QI), Application Type: New NVO License.

Martik LLC (OFF), 19390 Collins Avenue, Suite 1224, Sunny Isles, FL 33160, Officers: Diana P. Alzate, Managing Member (QI), Oscar J. Alzate, Member, Application Type: New OFF License.

MGL International Group Inc. dba Mega Grace Logistics (NVO), 2703 S. George Lane, Walnut, CA 91789, Officer: Shin Shin (Cynthia) Liu, President (QI), Application Type: New NVO License.

Monfreight, Inc. (NVO & OFF), 765 Revere Beach Parkway, Suite A, Revere. MA 02151, Officer:Peter E. Awezec, President (QI), Application Type: Add NVO Service and Trade Name Nelseco Line.

Raymond Express Corporation dba Raymond Express International (OFF), 320 Harbor Way, South San Francisco, CA 94080, Officers: Raymond Wong, Chairman (QI), John Tree, CEO, Application Type: License Transfer to Raymond Express International, LLC.

RMT Logistics Inc. (NVO), 7425 SW 126th Street, Pinecrest, FL 33156, Officer: Rafael Mejias, President (QI), Application Type: New NVO License.

Seatop International Corporation (NVO & OFF), 15442 E. Valley Blvd., City of Industry, CA 91746, Officer: Joseph Y. Yau, President (QI), Application Type: New NVO License.

Soonest Express, Inc. (NVO & OFF), 228 East Harris Avenue, P.O. Box 2165, South San Francisco, CA 94083, Officers: Kang Y. Sun, Treasurer (QI), C.M. Ku-Twn, President, Application Type: Add OFF Service.

Tri-Best Logistics, Inc. (NVO & OFF), 1484 E. Valencia Drive, Fullerton, CA 92831, Officers: David S. Moon, Secretary (QI), Chris J. Lee, CEO, Application Type: QI Change.

By the Commission.
Dated: July 19, 2013.
Rachel E. Dickon,
Assistant Secretary.

[FR Doc. 2013-19108 Filed 8-7-13; 8:45 am]

BILLING CODE 6730-01-P